ENVIRONMENTAL PROTECTION AGENCY

40 CFR Part 52

[EPA-R09-OAR-2006-0186, FRL-8569-6]

Revisions to the California State Implementation Plan, Northern Sierra Air Quality Management District, Including Nevada County Air Pollution Control District Portion, Plumas County Air Pollution Control District Portion, and Sierra County Air Pollution Control District Portion

AGENCY: Environmental Protection Agency (EPA).

ACTION: Direct final rule.

SUMMARY: EPA is taking direct final action to approve revisions to the Northern Sierra Air Quality Management District (NSAQMD) portion of the California State Implementation Plan (SIP) portion of the SIP, including the Nevada County Air Pollution Control District (NCAPCD), Plumas County Air Pollution Control district (PCAPCD), and Sierra County Air Pollution Control District (SCAPCD) portions of the SIP. These revisions concern the permitting of air pollution sources. We are approving local and removing local rules under authority of the Clean Air Act as amended in 1990 (CAA or the Act).

DATES: This rule is effective on September 8, 2008, without further notice, unless EPA receives adverse comments by August 8, 2008. If we receive such comments, we will publish a timely withdrawal in the Federal Register to notify the public that this rule will not take effect.

ADDRESSES: Submit comments, identified by docket number EPA-R09-OAR-2006-0186, by one of the following methods:

• Federal eRulemaking Portal: http://www.regulations.gov. Follow the on-line instructions.

• E-mail: R9airpermits@epa.gov.

• Mail or deliver: Gerardo Rios (Air-3), U.S. Environmental Protection Agency Region IX, 75 Hawthorne Street, San Francisco, CA 94105.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section below.

FOR FURTHER INFORMATION CONTACT: Laura Yannayon, Permits Office (AIR-3), U.S. Environmental Protection Agency, Region IX, (415) 972-3534, yannayon.laura@epa.gov.

SUPPLEMENTARY INFORMATION: Throughout this document, “we,” “us” and “our” refer to EPA.

Table of Contents

I. The State's Submittal

A. What rules did the State submit?

B. Are there other versions of these rules?

C. What rules are being removed from the SIP by EPA?

D. What are the purposes of the rule revisions or rule removals?

II. EPA's Evaluation and Action

A. How is EPA evaluating the rules?

B. Do the rule submittals meet the evaluation criteria?

C. Public comment and final action

III. Statutory and Executive Order Reviews

I. The State's Submittal

A. What Rules Did the State Submit?

Table 1 lists the rules we are approving with the date of adoption by the local air agency and submittal by the California Air Resources Board (CARB).

Table 1.—Rules Submitted by the NSAQMD
Local agency | Rule No. | Rule title | Adopted or amended | Submitted
NSAQMD | 501 | Permit Required | 05/11/94, Amended | 10/28/96
NSAQMD | 505 | Conditional Approval | 09/11/91, Adopted | 10/28/96
NSAQMD | 510 | Separation of Emissions | 09/11/91, Adopted | 10/28/96
NSAQMD | 511 | Combination of Emissions | 09/11/91, Adopted | 10/28/96
NSAQMD | 512 | Circumvention | 09/11/91, Adopted | 10/28/96
NSAQMD | 513 | Source Recordkeeping | 05/11/94, Amended | 10/28/96
NSAQMD | 515 | Provision of Sampling and Testing Facilities | 09/11/91, Adopted | 10/28/96
NSAQMD | 517 | Transfer | 09/11/91, Adopted | 10/28/96

On December 19, 1996, the submittal of the rules in table 1 was found to meet the completeness criteria in 40 CFR part 51, appendix V, which must be met before formal EPA review.

B. Are There Other Versions of These Rules?

There are certain versions of SIP rules from the three individual defunct county air districts, NCAPCD, PCAPCD, and SCAPCD, being superseded by the submitted NSAQMD rules below:

NSAQMD Rule 501, Permit Required, supersedes the following versions:

• PCAPCD Rule 501, Permit Required (submitted on June 22, 1981, approved on June 18, 1982).

• SCAPCD Rule 501, Permit Required (submitted on June 22, 1981, approved on June 18, 1982).

NSAQMD Rule 505, Conditional Approval, supersedes the following versions:

• NCAPCD Section 16, Conditional Approval (submitted on February 21, 1972, approved on May 31, 1972).

• PCAPCD Rule 505, Conditional Approval (submitted on June 22, 1981, approved on June 18, 1982).

• SCAPCD Rule 505, Conditional Approval (submitted on June 22, 1981, approved on June 18, 1982).

NSAQMD Rule 515, Provision of Sampling and Testing Facilities, supersedes the following versions:

• SCAPCD Section 47, Emission Monitoring (submitted on February 21, 1972, approved on May 31, 1972).

• SCAPCD Section 49, Tests (submitted on February 21, 1972, approved on May 31, 1972).

• SCAPCD Section 50, Field Inspection (submitted on February 21, 1972, approved on May 31, 1972).

NSAQMD Rule 517, Transfer, supersedes the following versions:

• PCAPCD Rule 517, Transfer (submitted on June 22, 1981, approved on June 18, 1982).

• SCAPCD Rule 517, Transfer (submitted on June 22, 1981, approved on June 18, 1982).

There are no versions of submitted NSAQMD Rules 510, 511, 512, and 513 in the SIP.

C. What Rules Are Being Removed From the SIP by EPA?

Rules of the individual defunct air districts that we are removing from the SIP are listed in tables 2, 3, and 4. The original dates of submittal by the California Air Resources Board (CARB) and approval by EPA, along with the reason for removal from the SIP, are provided.

Table 2.—Rules Removed From the NCAPCD SIP by EPA
Local agency | Rule or section | Rule title | Submitted | Approved by EPA | Reason for removal
NCAPCD | 11 | Registration Required | 02/21/72 | 05/31/72 | (¹)
NCAPCD | 51 | Nuisance | 02/21/72 | 05/31/72 | (¹)
NCAPCD | 106 | Validity | 04/10/75 | 06/14/78 | (¹)
NCAPCD | 107 | Effective Date | 04/10/75 | 06/14/78 | (¹)
NCAPCD | 201 | District-Wide Coverage | 04/10/75 | 06/14/78 | (¹)
NCAPCD | 215 | Existing Sources | 04/10/75 | 06/14/78 | (¹)
NCAPCD | 401 | Responsibility | 04/10/75 | 06/14/78 | (¹)
NCAPCD | 403 | Responsibility of Permitting | 04/10/75 | 06/14/78 | (¹)

Table 3.—Rules Removed From the PCAPCD SIP by EPA
Local agency | Rule or section | Rule title | Submitted | Approved by EPA | Reason for removal
PCAPCD | 507 | Responsibility | 06/22/81 | 06/18/82 | (¹)
PCAPCD | 508 | Posting of Permit to Operate | 06/22/81 | 06/18/82 | (³)

Table 4.—Rules Removed From the SCAPCD SIP by EPA
Local agency | Rule or section | Rule title | Submitted | Approved by EPA | Reason for removal
SCAPCD | 201 | District-Wide Coverage | 01/10/75 | 08/22/77 | (¹)
SCAPCD | 205 | Nuisance | 01/10/75 | 08/22/77 | (²)
SCAPCD | 507 | Responsibility | 06/22/81 | 06/18/82 | (¹)
SCAPCD | 508 | Posting of Permit to Operate | 06/22/81 | 06/18/82 | (¹)
Notes: Reasons for removal from the SIP of the rules in tables 2, 3, and 4 are as follows:
¹ The rule is not required for the SIP to achieve or maintain attainment.
² The rule is not appropriate for EPA to enforce.
³ The rule is appropriate to be in the SIP, but is not approvable according to current EPA requirements.

D. What Are the Purposes of the Rule Revisions or Rule Removals?

Section 110(a) of the CAA requires states to submit regulations that control volatile organic compounds, nitrogen oxides, particulate matter, and other air pollutants which harm human health and the environment. Permitting rules were developed as part of the local air district's programs to control these pollutants. The overall purpose of the present actions on NSAQMD permitting rules is to partially consolidate the SIP rules from the original individual air districts, NCAPCD, PCAPCD, and SCAPCD, into one set of SIP rules for the unified NSAQMD.

The SIP rules being removed are from three defunct individual county air districts, NCAPCD, PCAPCD, and SCAPCD, which were unified to form the NSAQMD. These defunct district rules are not appropriate or required for the SIP or were replaced by currently-active NSAQMD SIP rules. The rules listed in tables 2, 3, and 4 are being removed from the SIP by EPA under the authority of section 110(k)(6) of the CAA. The removal of these listed rules does not relax the SIP and does not result in an increase in air emissions.

The purposes of the new submitted rules are as follows:

• Rule 510: The rule clarifies that the emissions from multiple emission points in a single source operation may not exceed the limit that would have applied for one emission point for that source.

• Rule 511: The rule allows multiple emission sources to be regulated separately if the emissions are combined and if the emissions are susceptible to reliably attributing the amount of emissions to each individual source. Otherwise, combined multiple emission sources must be regulated with the most stringent regulation for a single emission source.

• Rule 512: The rule prohibits circumvention of regulations by superficially reducing or concealing emissions that might violate emission regulations.

• Rule 513: The rule requires recordkeeping and reporting with a two-year retention period of those emissions required by the APCO.

The purposes of revisions relative to the SIP rules are as follows:

• Rule 501: The requirement that major sources subject to title V comply with federal operating permit regulations is added.

• Rule 505: The authority of the Air Pollution Control Officer (APCO) to grant a permit to rent or sell air pollution control equipment is removed.

• Rule 515: The requirements for sampling and testing to determine compliance with emission regulations are unified from the defunct district rules.

• Rule 517: The requirements for the transfer of ownership of an emission source are unified from the defunct district rules.

II. EPA's Evaluation and Action

A. How Is EPA Evaluating the Rules?

Generally, SIP rules regulating permitting must be enforceable (see section 110(a) of the CAA) and must not relax existing requirements (see sections 110(l) and 193). The revision or removal of SIP rules must not relax existing requirements. The NSAQMD regulates an 8-hour CAA subpart 1 ozone nonattainment area. There are no specific RACT requirements for permitting rules.

The following guidance documents were used for reference:

• Requirements for Preparation, Adoption, and Submittal of Implementation Plans, EPA, 40 CFR part 51.

• Guidance Document for Correcting Common VOC & Other Rule Deficiencies, EPA Region IX (August 21, 2001). (The Little Bluebook)

B. Do the Rule Submittals and Rule Removals Meet the Evaluation Criteria?

We believe the rule approvals and rule removals are consistent with the relevant policy and guidance regarding enforceability and SIP relaxations. The TSD has more information on our evaluation.

C. Public Comment and Final Action

EPA is approving local NSAQMD Rules 501, 505, 510, 511, 512, 513, 515, and 517 into the SIP and approving the removal of eight NCAPCD, two PCAPCD, and four SCAPCD permitting rules from the SIP. We believe these actions fulfill all relevant requirements. We do not think anyone will object to this, so we are finalizing the approvals and removals without proposing them in advance. However, in the Proposed Rules section of this Federal Register, we are simultaneously proposing approval of the same actions. If we receive adverse comments by August 8, 2008, we will publish a timely withdrawal in the Federal Register to notify the public that the direct final approval will not take effect and we will address the comments in a subsequent final action based on the proposal. If we do not receive timely adverse comments, the direct final approval will be effective without further notice on September 8, 2008. This will incorporate the submitted rules in table 1 into the federally-enforceable SIP and remove the rules in tables 2, 3, and 4 from the SIP. Superseded SIP rules for those rules in table 1 are also removed from the SIP. There are no sanctions or FIP clocks associated with any previous action on the rules.

Please note that if EPA receives adverse comment on an amendment, paragraph, or section of this rule and if that provision may be severed from the remainder of the rule, EPA may adopt as final those provisions of the rule that are not the subject of an adverse comment.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 8, 2008. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Reporting and recordkeeping requirements.

Dated: April 16, 2008.
Laura Yoshii,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (b)(7)(iii), (c)(26)(ix)(D), (c)(27)(vii)(F), (c)(93)(iii)(E), (c)(93)(iv)(F), (c)(246)(i)(A)(4) and (5) to read as follows:

§ 52.220 Identification of plan.

* * * * *

(b) * * *

(7) * * *

(iii) Previously approved on May 31, 1972 in paragraph (b) of this section and now deleted without replacement Rules 11 and 51.

* * * * *

(c) * * *

(26) * * *

(ix) * * *

(D) Previously approved on August 22, 1977 in paragraph (c)(26)(ix)(A) of this section and now deleted without replacement Rules 201 and 205.

* * * * *

(27) * * *

(vii) * * *

(F) Previously approved on June 14, 1978 in paragraph (c)(27)(vii)(A) of this section and now deleted without replacement Rules 106, 107, 201, 215, 401, and 403.

* * * * *

(93) * * *

(iii) * * *

(E) Previously approved on June 18, 1982 in paragraph (c)(93)(iii)(B) of this section and now deleted without replacement Rules 507 and 508.

(iv) * * *

(F) Previously approved on June 18, 1982 in paragraph (c)(93)(iv)(B) of this section and now deleted without replacement Rules 507 and 508.

* * * * *

(246) * * *

(i) * * *

(A) * * *

(4) Rule 505, “Conditional Approval,” Rule 510, “Separation of Emissions,” Rule 511, “Combination of Emissions,” Rule 512, “Circumvention,” Rule 515, “Provision of Sampling and Testing Facilities,” and Rule 517, “Transfer,” adopted on September 11, 1991.

(5) Rule 501, “Permit Required” and Rule 513, “Source Recordkeeping,” amended on May 11, 1994.

* * * * *

[FR Doc. E8-15435 Filed 7-8-08; 8:45 am]

BILLING CODE 6560-50-P